DEPARTMENT OF AGRICULTURE

Forest Service

DEPARTMENT OF THE INTERIOR

Fish and Wildlife Service

[FWS-R7-SM-2012-N268; FXFR13350700640-134-FF07J00000]

North Slope Federal Subsistence Regional Advisory Council Meeting

AGENCY: Forest Service, Agriculture; Fish and Wildlife Service, Interior.

ACTION: Notice of meeting (teleconference).

SUMMARY: This notice informs the public that the North Slope Federal Subsistence Regional Advisory Council (Council) will hold a public meeting by teleconference on December 7, 2013. The public is invited to participate and to provide oral testimony. The purpose of the Council is to provide recommendations and information to the Federal Subsistence Board, to review policies and management plans, and to provide a public forum for subsistence issues.

DATES: The teleconference will take place on December 7, 2013, at 9 a.m. For how to participate, please see SUPPLEMENTARY INFORMATION, below.

FOR FURTHER INFORMATION CONTACT: Chair, Federal Subsistence Board, by U.S. mail c/o U.S. Fish and Wildlife Service, Attention: Peter J. Probasco, Office of Subsistence Management, 1011 East Tudor Road, Anchorage, AK 99503; by telephone at (907) 786-3888; or via email at subsistence@fws.gov. For questions specific to National Forest System lands, please contact Steve Kessler, Subsistence Program Leader, by U.S. mail at USDA, Forest Service, 3301 C Street, Suite 202, Anchorage, AK 99503; by telephone at (907) 743-9461; or via email at skessler@fs.fed.us.

SUPPLEMENTARY INFORMATION: In accordance with the requirements of the Federal Advisory Committee Act, 5 U.S.C. App., the North Slope Federal Subsistence Regional Advisory Council will meet to review the draft Memorandum of Understanding between the Federal Subsistence Board and State of Alaska and to form other recommendations on fish and wildlife issues. This meeting is a follow-up to the Council's August 14, 2012, meeting, which made recommendations on changes to the regulations for the subsistence taking of fish to the Federal Subsistence Board and to address subsistence issues concerning the region. To participate, call toll free 1-866-560-5984. When prompted, enter the following passcode: 12960066.

Authority: 16 U.S.C. 3, 472, 551, 668dd, 3101-3126; 18 U.S.C. 3551-3586; 43 U.S.C. 1733.

Dated: November 15, 2012.
Peter J. Probasco,
Assistant Regional Director, U.S. Fish and Wildlife Service, Acting Chair, Federal Subsistence Board.
Dated: November 15, 2012.
Steve Kessler,
Subsistence Program Leader, USDA—Forest Service.

[FR Doc. 2012-28297 Filed 11-20-12; 8:45 am]

BILLING CODE 4310-55-P 3410-11-P